DEPARTMENT OF AGRICULTURE

Forest Service

Information Collection; Request for Comments; National Woodland Owner Survey

AGENCY: Forest Service, USDA.

ACTION: Notice.

SUMMARY: In accordance with the Paperwork Reduction Act of 1995, the USDA Forest Service is seeking comments from all interested individuals and organizations on a previously approved information collection, the National Woodland Owner Survey, that the Forest Service is seeking to reinstate. This information collection will help the Forest Service and others assess the current state of the nation's forest resources, identify opportunities and constraints of private forest-land owners, and facilitate planning and implementation of forest policies and programs. Information will be collected from private forest-land owners in the United States.

DATES: Comments must be received in writing on or before March 15, 2005 to be assured of consideration. Comments received after this date will be considered to the extent practicable.

ADDRESSES: Comments concerning this notice should be addressed to National Woodland Owner Survey, Attn: Brett Butler, Northeastern Research Station, Forest Service, USDA, 11 Campus Boulevard, Suite 200, Newtown Square, PA 19073.

Comments also may be submitted via facsimile to (610) 557-4250 or by e-mail to nwos@fs.fed.us.

The public may inspect comments received at 11 Campus Boulevard, Suite 200, Room 2040, Newtown Square, PA. Visitors are encouraged to call ahead to (610) 557-4002 to facilitate entry to the building.

FOR FURTHER INFORMATION CONTACT: Brett Butler, Northeastern Research Station, (610) 557-4045. Individuals who use telecommunication devices for the deaf (TDD) should call the Federal Information Relay Service (FIRS) at 1-800-877-8339 twenty-four hours a day, every day of the year, including holidays.

SUPPLEMENTARY INFORMATION:

Title: National Woodland Owner Survey.

OMB Number: 0596-0078.

Expiration Date of Approval: December 31, 2004.

Type of Request: Reinstatement.

Abstract: The National Woodland Owner Survey (NWOS) will collect data to characterize and increase our understanding of private forest-land owners, the critical link between forests and society, in the United States; to determine the opportunities and constraints confronting private forest-land owners; and to facilitate the planning and implementation of forest policies and programs.

The Forest and Range Land Renewable Resources Planning Act of 1974 and the Forest and Range Land Renewable Resources Act of 1978 provide the Forest Service with the legal authority to conduct the NWOS. These acts assign responsibility for the inventory and assessment of forest and related renewable resources to the Forest Service. Additionally, the importance of an ownership survey in this inventory and assessment process is highlighted in Section 253(c) of the Agricultural Research, Extension, and Education Reform Act of 1998, and the recommendations of the Second Blue Ribbon Panel on the Forest Inventory and Analysis Program.

The Forest Service's Forest Inventory and Analysis (FIA) program has conducted the NWOS on a periodic basis since 1978. The NWOS collects information to help answer questions related to the characteristics of the landholdings and landowners, ownership objectives, the supply of timber and non-timber products, forest management practices, delivery of education and financial assistance, and the concerns/constraints perceived by the landowners. The information collected provides widely cited benchmarks of the private forest-land owners in the United States. These results have been used to assess the sustainability of forest resources at national, regional, and state levels; to implement and assess the success of forest-land owner assistance programs; and to answer a variety of questions with topics ranging from fragmentation to the economics of private timber production.

The respondents will be a statistically selected group of individuals, families, American Indian tribes, partnerships, corporations, nonprofit organizations, clubs, and other private groups that own forest land in the United States. This group will be selected by using public records to collect the names and addresses from a systematic set of points identified as forest land from across the country. The number of forest-land owners to be contacted in each state will be determined by the number of private forest-land owners and the sampling intensity.

Respondents will be asked to answer questions related to (1) The general characteristics of their forest land, (2) their reasons for owning it, (3) how they use and manage their forest land, (4) their concerns related to their forest land, (5) their intentions for the future of their forest land, and (6) demographic information.

As in past information collections, respondents will be asked to answer questions related to the characteristics of their landholdings, their reasons for owning forest-land, the supply of timber and non-timber products, forest management practices, delivery of education and financial assistance, the concerns/constraints perceived by the landowners, their intentions for their forest-land, and general demographics.

The information collection will collect data using a mixed-mode survey technique that will involve a self-administered mail questionnaire and telephone interviews. First, a prenotice letter or postcard will be sent to all potential respondents describing this information collection and why the information is being collected and why their assistance is needed. Second, a questionnaire with a cover letter will be mailed to the potential respondents. The cover letter will reiterate the purpose and importance of this information collection and provide the respondents with legally required information. Third, a reminder will be mailed to thank the respondents and encourage the non-respondents to respond. The last stage of the mail portion of the information collection will be mailing a second questionnaire and cover letter to those individuals who have yet to respond. Telephone interviews will be used for follow-up surveys of the non-respondents to maximize our response rate.

The Forest Service's Forest Inventory and Analysis Program (FIA) will administer the mail portion of this information collection. The telephone interview portion of the information collection will be implemented by the National Agricultural Statistics Service, U.S. Department of Agriculture. Data will be compiled and edited by FIA personnel.

FIA personnel will analyze the collected data. At a minimum, national and regional reports of the data will be distributed through print and electronic media. In addition, the data will be made available to the public. The publicly released data will be formatted to ensure the anonymity of the respondents.

This information collection will generate reliable and up-to-date information on private forest-land owners in the United States. The results of these efforts will provide more reliable information on this important and very dynamic segment of the United States population and facilitate more complete assessments of the country's forest resources and improved planning and implementation of forestry programs.

Estimate of Annual Burden: 15 minutes.

Type of Respondents: Individuals, families, American Indian tribes, partnerships, corporations, nonprofit organizations, clubs, and other private groups that own forest land.

Estimated Annual Number of Respondents: 10,000.

Estimated Annual Number of Responses per Respondent: 1.

Estimated Total Annual Burden on Respondents: 2,500 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques, or other forms of information technology.

All comments received in response to this notice, including names and addresses when provided, will be a matter of public record. Comments will be summarized and included in the submission for Office of Management and Budget approval.

Dated: January 3, 2005.
Ann M. Bartuska,
Deputy Chief for Research & Development.

[FR Doc. 05-776 Filed 1-13-05; 8:45 am]

BILLING CODE 3410-11-P